DEPARTMENT OF TRANSPORTATION

Federal Aviation Administration

14 CFR Part 39

[Docket No. FAA-2012-1070; Directorate Identifier 2012-NM-099-AD; Amendment 39-17340; AD 2013-03-05]

RIN 2120-AA64

Airworthiness Directives; Airbus Airplanes

AGENCY: Federal Aviation Administration (FAA), Department of Transportation (DOT).

ACTION: Final rule.

SUMMARY: We are adopting a new airworthiness directive (AD) for all Airbus Model A300 B4-600, B4-600R, and F4-600R series airplanes, and Model A300 C4-605R Variant F airplanes (collectively called Model A300-600 series airplanes); and Airbus Model A310 series airplanes. This AD was prompted by fuel system reviews conducted by the European Aviation Safety Agency (EASA). This AD requires modifying the electrical control circuits of the inner, center, and trim tank pumps, as applicable. We are issuing this AD to reduce the potential of ignition sources inside fuel tanks, which, in combination with flammable fuel vapors, could result in fuel tank explosions and consequent loss of the airplane.

DATES: This AD becomes effective March 19, 2013.

The Director of the Federal Register approved the incorporation by reference of certain publications listed in this AD as of March 19, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Discussion

We issued a notice of proposed rulemaking (NPRM) to amend 14 CFR part 39 to include an AD that would apply to the specified products. That NPRM was published in the Federal Register on October 12, 2012 (77 FR 62182). That NPRM proposed to correct an unsafe condition for the specified products. The Mandatory Continuing Airworthiness Information (MCAI) states:

[T]he FAA published Special Federal Aviation Regulation (SFAR) 88, and the Joint Aviation Authorities (JAA) published Interim Policy INT/POL/25/12.

In the framework of these requirements, EASA [European Aviation Safety Agency] have determined that the electrical power supply circuits of certain fuel pumps, installed on A300/A300-600, A310 and A300-600ST aeroplane, for which the canisters become uncovered during normal operation, could, under certain conditions, create an ignition source in the tank vapour space.

This condition, if not corrected, could result in a fuel tank explosion and consequent loss of the aeroplane.

To address this potential unsafe condition, Airbus developed a modification which includes the installation of Ground Fault Interrupters (GFI) into the inner, centre, and trim tank fuel pump control circuits, providing additional system protection by electrically isolating the pump in case of a ground fault condition downstream of the GFI.

For the reasons described above, this [EASA] AD requires modification of the affected fuel pumps control circuit by installing GFI.

You may obtain further information by examining the MCAI in the AD docket.

Comments

We gave the public the opportunity to participate in developing this AD. We have considered the comments received.

No Requests or Objections

FedEx stated that the requirements and number of work-hours will fit into its maintenance schedule, and the manufacturer provided an estimate of 90 to 99 days' lead time on parts. FedEx also stated that the proposed actions will not require any special procedures or equipment. We infer that FedEx does not object to any requirements of this AD.

Request To Extend Compliance Time

United Parcel Service (UPS) noted that in Airbus Mandatory Service Bulletin A300-28-3104, dated February 28, 2012, Airbus provided a parts lead time estimate of 120 days. UPS stated that the 120 days would reduce the time left to accomplish the work described in that service bulletin. UPS requested that parts lead times be taken into consideration when the FAA develops compliance times for ADs. We infer that UPS requested the compliance time be extended to accommodate the 120-day parts lead time.

We disagree with the request to extend the compliance time. We considered the parts availability and lead time when developing the compliance time. We have not changed this AD in this regard. However, under the provisions of paragraph (h)(1) of this AD, we may approve requests for an alternative method of compliance (AMOC) if data are submitted to substantiate that such an adjustment would provide an acceptable level of safety.

Conclusion

We reviewed the available data, including the comments received, and determined that air safety and the public interest require adopting the AD as proposed except for minor editorial changes. We have determined that these minor changes:

• Are consistent with the intent that was proposed in the NPRM (77 FR 62182, October 12, 2012) for correcting the unsafe condition; and

• Do not add any additional burden upon the public than was already proposed in the NPRM (77 FR 62182, October 12, 2012).

Costs of Compliance

We estimate that this AD will affect 162 products of U.S. registry. We also estimate that it will take about 6 work-hours per product to comply with the basic requirements of this AD. The average labor rate is $85 per work-hour. Required parts will cost about $17,680 per product. Where the service information lists required parts costs that are covered under warranty, we have assumed that there will be no charge for these parts. As we do not control warranty coverage for affected parties, some parties may incur costs higher than estimated here. Based on these figures, we estimate the cost of this AD to the U.S. operators to be $2,946,780, or $18,190 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 62182, October 12, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-03-05 Airbus: Amendment 39-17340. Docket No. FAA-2012-1070; Directorate Identifier 2012-NM-099-AD.

(a) Effective Date

This airworthiness directive (AD) becomes effective March 19, 2013.

(b) Affected ADs

None.

(c) Applicability

This AD applies to the airplanes identified in paragraphs (c)(1) and (c)(2) of this AD, certificated in any category.

(1) All Airbus Model A300 B4-601, B4-603, B4-620, and B4-622 airplanes; Model A300 B4-605R and B4-622R airplanes; Model A300 F4-605R and F4-622R airplanes; and Model A300 C4-605R Variant F airplanes.

(2) All Airbus Model A310-203, -204, -221, -222, -304, -322, -324, and -325 airplanes.

(d) Subject

Air Transport Association (ATA) of America Code 28; Fuel.

(e) Reason

This AD was prompted by fuel system reviews conducted by the European Aviation Safety Agency (EASA). We are issuing this AD to reduce the potential of ignition sources inside fuel tanks, which, in combination with flammable fuel vapors, could result in fuel tank explosions and consequent loss of the airplane.

(f) Compliance

You are responsible for having the actions required by this AD performed within the compliance times specified, unless the actions have already been done.

(g) Actions

Within 48 months after the effective date of this AD, accomplish the actions specified in paragraph (g)(1) or (g)(2) of this AD, as applicable.

(1) For Model A310 series airplanes: Modify the electrical control circuits of the inner, center, and trim tank pumps, as applicable, in accordance with the Accomplishment Instructions of Airbus Mandatory Service Bulletin A310-28-2170, dated February 28, 2012.

(2) For Model A300-600 airplanes: Modify the electrical control circuits of the inner, center, and trim tank pumps, as applicable, in accordance with the Accomplishment Instructions of Airbus Mandatory Service Bulletin A300-28-6104, dated February 28, 2012.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI EASA Airworthiness Directive 2012-0091, dated May 25, 2012, and the service information identified in paragraphs (i)(1) and (i)(2) of this AD, for related information.

(1) Airbus Mandatory Service Bulletin A310-28-2170, dated February 28, 2012.

(2) Airbus Mandatory Service Bulletin A300-28-6104, dated February 28, 2012.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A310-28-2170, dated February 28, 2012.

(ii) Airbus Mandatory Service Bulletin A300-28-6104, dated February 28, 2012.

(3) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 28, 2013.
Ali Bahrami,
Manager, Transport Airplane Directorate, Aircraft Certification Service.

[FR Doc. 2013-02723 Filed 2-11-13; 8:45 am]

BILLING CODE 4910-13-P